PACIFIC NORTHWEST ELECTRIC POWER AND CONSERVATION PLANNING COUNCIL

Amended Columbia River Basin Fish and Wildlife Program

AGENCY: Pacific Northwest Electric Power and Conservation Planning Council (Northwest Power and Conservation Council, Council), an interstate compact agency organized under the authority of the Pacific Northwest Electric Power Planning and Conservation Act of 1980, 16 U.S.C. 839 et seq. (Northwest Power Act).

ACTION: Notice of final action adopting the amended Columbia River Basin Fish and Wildlife Program.

SUMMARY: Pursuant to section 4(h) of the Northwest Power Act, the Council has amended its Columbia River Basin Fish and Wildlife Program (program). The final amended program may be found on the Council's Web site at http://www.nwcouncil.org/fw/program. Background: Pursuant to section 4(h) of the Northwest Power Act, in November 2007 the Northwest Power and Conservation Council requested in writing that State and Federal fish and wildlife agencies, Indian tribes, and others submit recommendations for amendments to the Council's Columbia River Basin Fish and Wildlife Program. The Council received over 3000 pages of recommendations and supporting information from 65 entities. The Council then received extensive written public comment on the program amendment recommendations. In September 2008, after reviewing the recommendations, the supporting information, and the comments received on the recommendations, the Council released for public review a draft revised Fish and Wildlife Program. The Council received over 1000 pages of substantial written comments on the draft amendments. All of these documents may be found on the Council's Web site at http://www.nwcouncil.org/fw/program/2008amend. The Council also took oral testimony at a dozen public hearings around the region. Transcripts of these hearings are in the administrative record along with the written comments. As specified in section 4(h)(5), the Council also held a number of consultations on the recommendations and draft amendments with representatives of State and Federal fish and wildlife agencies, Indian tribes, Federal hydrosystem agencies, and customers of the Bonneville Power Administration. Notes from these consultations are also in the administrative record.

Following this public review process required by the Northwest Power Act, and after deliberations in public over the course of several Council meetings, the Council adopted the final revised program in February 2009 at a Council meeting in Portland, Oregon. The Council based its decisions on the recommendations, supporting documents, and the views and information obtained through public comment and participation and consultation with the agencies, tribes, and customers. The Council's Columbia River Basin Fish and Wildlife Program continues to include detailed plans for nearly 60 subbasins and mainstem reaches of the Columbia River Basin. The subbasin plans themselves were not revised in this process. In the final step of this program amendment process, at its June 2009 meeting in Whitefish, Montana, the Council adopted written findings explaining its disposition of the program amendment recommendations, as required by section 4(h)(7) of the Northwest Power Act, along with responses to comments received on the program amendment recommendations and on the draft amended program. The findings and responses have been made part of the program as Appendix F. All of the elements of the Council's Fish and Wildlife Program may be found on the Council's Web site at http://www.nwcouncil.org/fw/program.

FOR FURTHER INFORMATION CONTACT: Please visit the Council's Web site at http://www.nwcouncil.org or contact the Council at (503) 222-5161 or toll free (800) 452-5161.

Stephen L. Crow,
Executive Director.

[FR Doc. E9-15090 Filed 6-25-09; 8:45 am]

BILLING CODE P